DEPARTMENT OF LABOR

Employment and Training Administration

[TA-W-71,499; TA-W-71,499A; TA-W-71,499B]

Sara Lee Corporation Including On-Site Leased Workers From EDS, Hewitt Packard, Sapphire Technology, and TekSystems Downers Grove, Illinois; Sara Lee Corporation, Master Data, Cash Applications, Deductions, Collections, Call Center, Information Technology, Accounts Payable, General Accounts, Financial Accounts, Payroll, and Employee Master Data Departments Including On-Site Leased Workers From ADECCO, Crossfire, Kelly, K-Force, Labor Ready Staffing, Randstad, RGP, RHI, Sapphire Technology, Select Staffing, TekSystems, the Brighton Group, Trasys, VIP Staffing, and Workforce Temps, Earth City, MO; Sara Lee Corporation; Information Technology Department, Including On-Site Leased Workers From Adecco, Crossfire, Kelly, K-Force, Labor Ready Staffing, Randstad, RGP, RHI, Sapphire Technology, Select Staffing, Snelling Staffing, TekSystems, the Brighton Group, TraSys, VIP Staffing, and Workforce Temps Mason, OH; Amended Certification Regarding Eligibility To Apply for Worker Adjustment Assistance

In accordance with Section 223 of the Trade Act of 1974, as amended (“Act”), 19 U.S.C. 2273, the Department of Labor issued a Certification of Eligibility to Apply for Worker Adjustment Assistance on October 7, 2009, applicable to workers of Sara Lee Corporation, including on-site leased workers from EDS, Hewitt Packard, Sapphire Technology, and TekSystems, Downers Grove, Illinois (TA-W-71,499). The notice was published in the Federal Register on December 11, 2009 (74 FR 65799).

At the request of a former worker, the Department reviewed the certification for workers of the subject firm. The workers provide shared financial services and information technology.

The review revealed that workers at the Mason, Ohio and Earth City, Missouri locations of the subject firm are eligible to be included in this certification.

Accordingly, the Department is amending this certification to include workers providing shared financial and information technology services at Sara Lee Corporation, Mason, Ohio and Sara Lee Corporation, Earth City, Missouri.

The amended notice applicable to TA-W-71,499, TA-W-71,499A, and TA-W-71,499B are hereby issued as follows:

All workers of Sara Lee Corporation, including on-site leased workers from EDS, Hewitt Packard, Sapphire Technology, and TekSystems, Downers Grove, Illinois (TA-W-71,499), who became totally or partially separated from employment on or after June 30, 2008, through October 7, 2011, and all workers in the group threatened with total or partial separation from employment on the date of certification through two years from the date of certification, are eligible to apply for adjustment assistance under Chapter 2 of Title II of the Trade Act of 1974, as amended.

All workers of Sara Lee Corporation, Master Data, Cash Applications, Deductions, Collections, Call Center, Information Technology, Accounts Payable, General Accounts, Financial Accounts, Payroll, and Employee Master Data Departments, including on-site leased workers from Adecco, Crossfire, Kelly, K-Force, Labor Ready Staffing, Randstand, RGP, RHI, Sapphire Technology, Select Staffing, TekSystems, the Brighton Group, TraSys, VIP Staffing, and Workforce Temps, Earth City, Missouri (TA-W-71,499A), who became totally or partially separated from employment on June 30, 2008, are eligible to apply for adjustment assistance under Chapter 2 of Title II of the Trade Act of 1974, as amended.

All workers of Sara Lee Corporation, Information Technology Department, including on-site leased workers from Adecco, Crossfire, Kelly, K-Force, Labor Ready Staffing, Randstand, RGP, RHI, Sapphire Technology, Select Staffing, Snelling Staffing, TekSystems, the Brighton Group, TraSys, VIP Staffing, and Workforce Temps, Mason, Ohio (TA-W-71,499B), who became totally or partially separated from employment on or after June 30, 2008, through February 2, 2009, are eligible to apply for adjustment assistance under Chapter 2 of Title II of the Trade Act of 1974, as amended.

Signed at Washington, DC this 19th day of October 2010.
Elliott S. Kushner,
Certifying Officer, Division of Trade Adjustment Assistance.

[FR Doc. 2010-27757 Filed 11-2-10; 8:45 am]

BILLING CODE 4510-FN-P